DEPARTMENT OF STATE

[Public Notice 6954]

Notice of Public Meeting on FY 2011 Refugee Admissions Program

There will be a meeting on the President's FY 2011 Refugee Admissions Program on Tuesday, May 4, 2010 from 2 p.m. to 4 p.m. The meeting will be held at the Refugee Processing Center, 1401 Wilson Boulevard, Suite 700, Arlington, Virginia. The meeting's purpose is to hear the views of attendees on the appropriate size and scope of the FY 2011 Refugee Admissions Program.

Persons wishing to attend this meeting must notify the Bureau of Population, Refugees, and Migration at telephone (202) 663-1006 by 5 p.m. on Thursday, April 29, 2010, to reserve a seat. Persons wishing to present written comments should submit them by 5 p.m. on Thursday, April 29, 2010 via e-mail spruellda@state.gov or fax (202) 663-1364.

If you have questions about the public meeting, please contact Delicia Spruell, PRM/Admissions Program Officer at (202) 663-1006. Information about the Refugee Admissions Program may be found at http://www.state.gov/g/prm/.

Dated: April 12, 2010.
David Robinson,
Deputy Assistant Secretary, Bureau of Population, Refugees, and Migration, Department of State.

[FR Doc. 2010-8785 Filed 4-15-10; 8:45 am]

BILLING CODE 4710-33-P